DEPARTMENT OF THE TREASURY

Office of Foreign Assets Control

31 CFR Part 587

Publication of Russian Harmful Foreign Activities Sanctions Regulations Determination

AGENCY: Office of Foreign Assets Control, Treasury.

ACTION: Publication of a determination.

SUMMARY: The Department of the Treasury's Office of Foreign Assets Control (OFAC) is publishing a products determination issued pursuant to a March 11, 2022 Executive order. The determination was previously issued on OFAC's website.

DATES: The determination pursuant to section 1(a)(i) of Executive Order 14068 was issued on June 24, 2022. See SUPPLEMENTARY INFORMATION for additional relevant dates.

FOR FURTHER INFORMATION CONTACT: OFAC: Assistant Director for Licensing, 202-622-2480; Assistant Director for Regulatory Affairs, 202-622-4855; or Assistant Director for Sanctions Compliance & Evaluation, 202-622-2490.

SUPPLEMENTARY INFORMATION:

Electronic Availability

This document and additional information concerning OFAC are available on OFAC's website: www.treas.gov/ofac.

Background

On March 11, 2022, the President, invoking the authority of, inter alia, the International Emergency Economic Powers Act (50 U.S.C. 1701 et seq.), issued Executive Order (E.O.) 14068 (87 FR 14381, March 15, 2022). Among other prohibitions, section 1(a)(i) of E.O. 14068 prohibits the importation into the United States of the following products of Russian Federation origin: fish, seafood, and preparations thereof; alcoholic beverages; non-industrial diamonds; and any other products of Russian Federation origin as may be determined by the Secretary of the Treasury, in consultation with the Secretary of State and the Secretary of Commerce.

On June 24, 2022, pursuant to delegated authority, the Director of OFAC, in consultation with the Department of State and the Department of Commerce, determined that the prohibitions in section 1(a)(i) of E.O. 14068 shall apply to gold of Russian Federation origin. The determination took effect upon publication on OFAC's website (www.treas.gov/ofac) on June 28, 2022. The text of the determination is below.

OFFICE OF FOREIGN ASSETS CONTROL

Determination Pursuant to Section 1(a)(i) of Executive Order 14068

Prohibitions Related to Imports of Gold of Russian Federation Origin

Pursuant to sections 1(a)(i), 1(b), and 5 of Executive Order (E.O.) 14068 of March 11, 2022 (“Prohibiting Certain Imports, Exports, and New Investment With Respect to Continued Russian Federation Aggression”) and 31 CFR 587.802, the Director of the Office of Foreign Assets Control, in consultation with the Department of State and the Department of Commerce, hereby determines that the prohibitions in section 1(a)(i) of E.O. 14068 shall apply to gold of Russian Federation origin. As a result, the importation into the United States of gold of Russian Federation origin is prohibited, except to the extent provided by law, or unless licensed or otherwise authorized by the Office of Foreign Assets Control.

This determination excludes gold of Russian Federation origin that was located outside of the Russian Federation prior to the effective date of this determination.

This determination shall take effect upon publication by the Director of the Office of Foreign Assets Control on the Department of the Treasury's website.

Andrea M. Gacki,
Director, Office of Foreign Assets Control.

[FR Doc. 2022-20030 Filed 9-14-22; 8:45 am]

BILLING CODE 4810-AL-P